NUCLEAR REGULATORY COMMISSION

[Docket No. 030-36574]

Notice of License Termination and Release of Building 7304 (Vault) Property in Fort Belvoir, VA, for Unrestricted Release

AGENCY: Nuclear Regulatory Commission (NRC).

ACTION: Notice of License Termination and Site Release for Unrestricted Use.

FOR FURTHER INFORMATION CONTACT: Tom McLaughlin, Materials Decommissioning Section, Division of Waste Management and Environmental Protection, NRC, Washington, DC 20555; telephone (301) 415-5869; fax (301) 415-5397; or e-mail at tgm@nrc.gov.

SUPPLEMENTARY INFORMATION:

I. Introduction

Pursuant to 10 CFR 2.106, the Nuclear Regulatory Commission (NRC) is providing notice that it is terminating license 19-10306-02 for the U.S. Department of the Army, (Army or licensee), and releasing the Building 7304 (Vault) property in Fort Belvoir, Virginia, for unrestricted use. The Army's request for an amendment to authorize decommissioning of its former radioactive waste storage facility in Fort Belvoir, Virginia, was previously noticed in the Federal Register on December 28, 2004 (69 FR 77779), with a notice of an opportunity to request a hearing.

The Army provided a final radiological status survey to demonstrate the site meets the license termination criteria in subpart E of 10 CFR part 20. In addition, NRC staff conducted independent in-process measurements of residual contamination remaining at the site.

The NRC staff has evaluated the Army's request, has reviewed the results of the final radiological survey, has performed in-process confirmatory measurements throughout the site property, and has determined that the site cleanup meets the unrestricted release dose criteria in 10 CFR 20.1402. The Commission has concluded that the site is suitable for release for unrestricted use, and has terminated the license for the Fort Belvoir, Virginia property. The staff prepared a Safety Evaluation Report (SER) to support the proposed action.

II. Further Information

In accordance with 10 CFR 2.790 of the NRC's “Rules of Practice,” details with respect to this action, including the SER, are available electronically at the NRC's Electronic Reading Room at http://www.nrc.gov/reading-rm/adams.html. From this site, you can access the NRC's Agency-wide Document Access and Management System (ADAMS), which provides text and image files of NRC's public documents. The ADAMS accession number for the document “License Termination Letter and Safety Evaluation Report” is ADAMS No. ML061090356. If you do not have access to ADAMS or if there are problems in accessing a document located in ADAMS, contact the NRC Public Document Room (PDR) Reference staff at 1-800-397-4209, 301-415-4737, or by e-mail to pdr@nrc.gov.

These documents may also be viewed electronically on the public computers located at the NRC's PDR, O-1F21, One White Flint North, 11555 Rockville Pike, Rockville, MD 20852. The PDR reproduction contractor will copy documents for a fee.

Dated at NRC, Rockville, Maryland, this 24th day of May, 2006.
For the Nuclear Regulatory Commission.
Daniel M. Gillen,
Deputy Director, Decommissioning Directorate, Division of Waste Management and Environmental Protection, Office of Nuclear Material Safety and Safeguards.

[FR Doc. E6-8449 Filed 5-31-06; 8:45 am]

BILLING CODE 7590-01-P